DEPARTMENT OF ENERGY

Federal Energy Regulatory Commission

[Project No. 2306-143]

Great Bay Hydro Corporation; Notice of Application for Amendment of License and Soliciting Comments, Motions To Intervene, and Protests

April 10, 2009.

Take notice that the following application has been filed with the Commission and is available for public inspection:

a. Application Type: Non-Capacity Amendment of License.

b. Project No.: 2306-143.

c. Date Filed: February 19, 2009.

d. Applicant: Great Bay Hydro Corporation.

e. Name of Project: Clyde River Hydroelectric Project.

f. Location: On the Clyde River near Newport, Orleans County, Vermont.

g. Filed Pursuant to: Federal Power Act, 16 U.S.C. 791a-825r.

h. Applicant Contact: William C. Rodgers, Director of Marketing, Great Bay Hydro Corporation, 1 New Hampshire Avenue, Suite 207, Portsmouth, NH 03801, telephone: (603) 294-4850.

i. FERC Contact: Mrs. Anumzziatta Purchiaroni, Telephone (202) 502-6191, and e-mail address: anumzziatta.purchiaroni@ferc.gov.

j. Deadline for filing comments, motions to intervene, and protest: May 11, 2009.

All documents (original and eight copies) should be filed with: Secretary, Federal Energy Regulatory Commission, 888 First Street, NE., Washington, DC 20426.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: The licensee is proposing a non-capacity amendment to replace the existing penstock and powerhouse with new facilities, and new generating units. Instead of repairing the penstock and existing powerhouse as authorized under the license, the licensee proposes to rebuild the powerhouse at the West Charleston Dam, thus eliminating the need for about 1600 feet of penstock. The proposed changes will reduce the authorized installed capacity of the Clyde River Project from 4.8 MW to 4.7 MW. The licensee's proposal has been reviewed and commented by the following agencies: Vermont Agency of Natural Resources (VANR), the U.S. Fish and Wildlife Service, and the Vermont Historic Preservation Officer. In addition, the licensee requested an amendment of its Water Quality Certification from the VANR.

l. Locations of the Application: A copy of the application is available for inspection and reproduction at the Commission's Public Reference Room, located at 888 First Street, NE., Room 2A, Washington, DC 20426, or by calling (202) 502-8371. Information about this filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E9-8810 Filed 4-16-09; 8:45 am]

BILLING CODE 6717-01-P